FEDERAL MARITIME COMMISSION

Notice of Agreement Filed

The Commission hereby gives notice of the filing of the following agreement under the Shipping Act of 1984. Interested parties may submit comments, relevant information, or documents regarding the agreement to the Secretary by email at Secretary@fmc.gov, or by mail, Federal Maritime Commission, Washington, DC 20573. Comments will be most helpful to the Commission if received within 12 days of the date this notice appears in the Federal Register. Copies of agreement are available through the Commission's website (www.fmc.gov) or by contacting the Office of Agreements at (202)-523-5793 or tradeanalysis@fmc.gov.

Agreement No.: 012248-001.

Agreement Name: MOL/NMCC Joint Operating Agreement.

Parties: Mitsui O.S.K. Lines, Ltd.; and Nissan Motor Car Carrier Co., Ltd.

Filing Party: Rebecca Fenneman; Jeffrey/Fenneman Law and Strategy PLLC.

Synopsis: The amendment would remove World Logistics Service (U.S.A.) Inc. as a party to the agreement and conform the language to reflect its removal; revise MOL's ownership of NMCC; correct a typographical error; and remove the authority to jointly negotiate with tug or towing vessel service providers on any matter relating to rates or services provided within the United States by those tugs or towing vessels.

Proposed Effective Date: 9/17/2021.

Location: https://www2.fmc.gov/FMC.Agreements.Web/Public/AgreementHistory/304.

Dated: August 5, 2021.
Rachel E. Dickon,
Secretary.

[FR Doc. 2021-17110 Filed 8-10-21; 8:45 am]

BILLING CODE 6730-02-P